DEPARTMENT OF THE INTERIOR

Bureau of Land Management

[CACA49575, LLCAD0000, L14300000, DS0000]

Notice of Intent To Prepare an Environmental Impact Statement for the Proposed Daggett Ridge Wind Farm, San Bernardino County, CA, and Possible Land Use Plan Amendment

AGENCY: Bureau of Land Management, Interior.

ACTION: Notice of intent.

SUMMARY: In compliance with the National Environmental Policy Act (NEPA) of 1969, the California Environmental Quality Act (CEQA), and the Federal Land Policy and Management Act of 1976, as amended, the Bureau of Land Management (BLM) California Desert District (CDD), Moreno Valley, California, together with the County of San Bernardino (County) intend to prepare an Environmental Impact Statement (EIS)/Environmental Impact Report (EIR), which may include an amendment to the California Desert Conservation Area (CDCA) Plan of 1980, as amended, and by this notice are announcing the beginning of the scoping process to solicit public comments and identify issues. The BLM will be the lead agency for NEPA compliance and the County will be the lead agency for CEQA compliance.

DATES: This notice initiates the public scoping process for the EIS/EIR and possible plan amendment. Comments on issues may be submitted in writing until December 23, 2009. The date(s) and location(s) of any scoping meetings will be announced at least 15 days in advance through local media, newspapers, and the BLM Web site at: http://www.blm.gov/ca/st/en/fo/cdd.html. In order to be considered in the Draft EIS/EIR, all comments must be received prior to the close of the scoping period or 15 days after the last public meeting, whichever is later. We will provide additional opportunities for public participation upon publication of the Draft EIS/EIR.

ADDRESSES: You may submit comments on issues and planning criteria related to the Daggett Ridge Wind Farm by any of the following methods:

• Web site: http://www.blm.gov/ca/st/en/fo/cdd.html.

• E-mail: cadaggettridge@blm.gov.

• Fax: (951) 697-5299.

• Mail or hand delivery: ATTN: Lynnette Elser, BLM California Desert District Office, 22835 Calle San Juan de Los Lagos, Moreno Valley, California 92553-9046.

The administrative record of this proposal may be examined at the California Desert District Office or the BLM's California State Office, 2800 Cottage Way, Sacramento, California 95825.

FOR FURTHER INFORMATION CONTACT: For further information or to have your name added to our mailing list, contact Lynnette Elser, telephone (951) 697-5233; address BLM California Desert District Office, 22835 Calle San Juan de Los Lagos, Moreno Valley, California 92553-9046; e-mail cadaggettridge@blm.gov.

SUPPLEMENTARY INFORMATION: The applicant, AES Wind Generation, has requested a right-of-way (ROW) authorization to construct, operate, maintain, and decommission the Daggett Ridge Wind Farm. The proposed energy facility would generate 82.5 megawatts (MW) of renewable power using wind resources. The project would include approximately 10 miles of new roads. It would also include one substation on private land. The project would require the BLM to approve an amendment to Southern California Edison's current Slash X ROW to allow telecommunication use. It would also require the BLM to approve two amendments to the Boulder Canyon Project permit to allow: (1) The construction and installation of additional poles within the existing ROW for telecommunication use; and (2) a new 500-foot line from the proposed Seaggett Substation, which would include the replacement of one pole on BLM-managed land. The proposed project would involve new or expanded utility corridors.The proposed project would use 1,577 acres of BLM-managed land and 380 acres of private property, all of which is located in unincorporated San Bernardino County, southeast of Barstow and southwest of Daggett, California. It will have a total of 33 wind turbines—28 on BLM-managed land and five on private land.

The purpose of the public scoping process is to determine relevant issues that will influence the scope of the environmental analysis, including alternatives, and guide the process for developing the EIS/EIR. At present, the BLM and the County have identified the following preliminary issues: Special status species, vegetation communities, special area designations, cultural resources, social impacts, visual resources, cumulative effectsand areas of high potential for renewable energy development.

Authorization of this proposal may require amendment of the CDCA Plan (1980, as amended). By this notice, the BLM is complying with requirements in 43 CFR 1610.2(c) to notify the public of potential amendments to land use plans, predicated on the findings of the EIS. If a land use plan amendment is necessary, the BLM will integrate the land use planning process with the NEPA process for this project.

The BLM will use the NEPA commenting process to satisfy the public involvement process for Section 106 of the National Historic Preservation Act (16 U.S.C. 470f) as provided for in 36 CFR 800.2(d)(3). Native American Tribal consultations will be conducted in accordance with BLM policy, and Tribal concerns will be given due consideration, including impacts on Indian trust assets. Federal, State, and local agencies, tribes, and other stakeholders that may be interested or affected by the BLM's or the County's decision on this project, are invited to participate in the scoping process and, if eligible, may request or be requested by the BLM or the County to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Thomas Pogacnik,
Deputy State Director, Natural Resources, California State Office.

[FR Doc. E9-27989 Filed 11-20-09; 8:45 am]

BILLING CODE 4310-40-P